DEPARTMENT OF THE INTERIOR

Bureau of Land Management

[CA-310-1820-AE]

Resource Advisory Council Meeting

AGENCY: Bureau of Land Management, Northwest California Resource Advisory Council, Redding, California.

ACTION: Notice of meeting.

SUMMARY: Pursuant to the authorities in the Federal Advisory Committees Act (Public Law 92-463) and the Federal Land Policy and Management Act (Public Law 94-579), the U.S. Bureau of Land Management's Northwest California Resource Advisory Council will meet Wednesday and Thursday, Jan. 30 and 31, 2002, in Redding, California, for a field tour and business meeting. The meeting and tour are open to the public, but anyone attending must provide their own transportation and lunch.

SUPPLEMENTARY INFORMATION: The meeting begins Wednesday, Jan. 30, at 10 a.m. at the BLM Redding Field Office, 355 Hemsted Dr., Redding. Members will convene, then depart for a field tour of public lands managed by the Redding Field Office. On Thursday, Jan. 31, the council will convene at 8 a.m. in the Conference Room of the BLM Redding Field Office. Items on the agenda include a presentation on proposed wilderness legislation, a report from the council's recreation user fee subcommittee, a report on the draft environmental impact statement for management of the Headwaters Forest Reserve, and a report on a BLM vegetative management environmental impact statement.

Public comments will be taken Thursday at 1 p.m. Depending on the number of persons wishing to speak, a time limit may be established.

FOR ADDITIONAL INFORMATION: Contact Lynda J. Roush, BLM Arcata Field Manager, at (707) 825-2300, or BLM Public Affairs Officer Joseph J. Fontana, (530) 257-5381.

Joseph J. Fontana,
Public Affairs Officer.

[FR Doc. 01-30616 Filed 12-10-01; 8:45 am]

BILLING CODE 4310-40-P